DEPARTMENT OF EDUCATION

Applications for New Awards; Personnel Development To Improve Services and Results for Children With Disabilities

AGENCY: Office of Special Education and Rehabilitative Services, Department of Education.

ACTION: Notice.

Overview Information: Notice inviting applications for new awards for fiscal year (FY) 2011.

Catalog of Federal Domestic Assistance (CFDA) Numbers: 84.325D, 84.325K, and 84.325T.

Note: This notice invites applications for three separate competitions. For key dates, contact person information, and funding information regarding each competition, see the chart in the Award Information section of this notice.

Dates: Applications Available: See chart.

Deadline for Transmittal of Applications: See chart.

Deadline for Intergovernmental Review: See chart.

Full Text of Announcement

I. Funding Opportunity Description

Purpose of Program: The purposes of this program are to (1) help address State-identified needs for highly qualified personnel—in special education, related services, early intervention, and regular education—to work with children, including infants and toddlers, with disabilities; and (2) ensure that those personnel have the necessary skills and knowledge, derived from practices that have been determined through scientifically-based research and experience, to be successful in serving those children.

Priorities: In accordance with 34 CFR 75.105(b)(2)(iv), these priorities are from allowable activities specified in the statute (see sections 662 and 681 of the Individuals with Disabilities Education Act (IDEA)). Each of the absolute priorities announced in this notice corresponds to a separate competition as follows:

Absolute priority | Competition CFDA No.
Preparation of Special Education, Early Intervention, and Related Services Leadership Personnel | 84.325D
Personnel Preparation in Special Education, Early Intervention, and Related Services | 84.325K
Special Education Preservice Program Improvement Grants | 84.325T

Absolute Priorities: For FY 2011 and any subsequent year in which we make awards based on the list of unfunded applications from these competitions, these priorities are absolute priorities. Under 34 CFR 75.105(c)(3), for each competition, we consider only applications that meet the absolute priority for that competition.

The priorities are:

Absolute Priority 1—Preparation of Special Education, Early Intervention, and Related Services Leadership Personnel (84.325D). Background:

There continues to be a persistent need for special education, early intervention, and related services personnel who are prepared at the doctoral and postdoctoral levels to fill faculty and research positions (Smith, Pion, & Tyler, 2004; Smith, Robb, West and Tyler, 2010; Woods & Snyder, 2009). Further, according to Lashley & Boscardin (2003), there is a need for personnel who are prepared at the graduate level (i.e., masters, education specialist, and doctoral degrees, depending on State certification requirements) to fill special education and early intervention administrator positions.

Federal support is needed to increase the supply of these personnel and ensure that they have the necessary knowledge and skills to assume special education, early intervention, and related services leadership positions in universities, State educational agencies (SEAs), State lead agencies (State LAs), local educational agencies (LEAs), local lead agencies (local LAs), schools, or programs. Critical competencies for special education, early intervention, and related services leadership personnel vary depending on the type of personnel preparation program; however, these competencies often include teaching skills, administrative skills,¹ and research skills as well as current knowledge of effective interventions that improve academic and functional outcomes for children with disabilities, including high-need children with disabilities. For the purpose of this priority, “high-need children with disabilities” refers to children (ages birth through twenty-one, depending on the State) who are eligible for services under IDEA, and who may be further disadvantaged and at risk of educational failure because they: (1) Are living in poverty, (2) are far below grade level, (3) are at risk of not graduating with a regular high school diploma on time, (4) are homeless, (5) are in foster care, (6) have been incarcerated, (7) are English learners, (8) are pregnant or parenting teenagers, (9) are new immigrants, (10) are migrant, or (11) are not on track to being college- or career-ready by graduation.

¹ For an example of standards for administrative skills, see the performance-based standards for a special education administrator developed by the Council for Exceptional Children (CEC) at: http://www2.astate.edu/dotAsset/118756.pdf.

Priority:

The purpose of the Preparation of Special Education, Early Intervention, and Related Services Leadership Personnel priority is to increase the quantity of special education, early intervention, and related services personnel who have been prepared at the graduate and advanced graduate levels, and who are well-qualified for, and can effectively carry out, leadership positions in universities, SEAs, State LAs, LEAs, local LAs, schools, or programs. This priority supports two types of programs that prepare leadership personnel:

Type A programs are designed to prepare, at the advanced graduate level, higher education faculty and researchers in early intervention, special education, or related services. Type A programs culminate in a doctoral degree or provide postdoctoral learning opportunities.

Note: Preparation that leads to clinical doctoral degrees in related services (e.g., a Doctor of Audiology (AuD) degree or Doctor of Physical Therapy (DPT) degree) are not included as part of this priority. Preparation programs that lead to a clinical doctoral degree are eligible to apply for funding under the Personnel Preparation in Special Education, Early Intervention, and Related Services priority (CFDA 84.325K) announced elsewhere in this notice.

Type B programs are designed to prepare, at the graduate or advanced graduate levels, special education or early intervention administrators to work in SEAs, State LAs, LEAs, local LAs, schools, or programs. The applicant, based on State certification requirements for some positions, can determine whether the proposed Type B program prepares personnel for one or more administrative position(s). Type B programs prepare personnel for positions such as SEA special education administrators, LEA special education directors or regional directors, school-based special education directors, preschool coordinators, and early intervention coordinators. Type B programs culminate in a master's, education specialist, or doctoral degree. The Office of Special Education Programs (OSEP) intends to fund in FY 2011 at least three high-quality applications proposing Type B programs and may fund these applications out of rank order.

Note: The preparation of school principals is not included as part of this priority.

Note: Applicants must identify the specific program type, A or B, for which they are applying for funding as part of the competition title on the application cover sheet (SF form 424, item 15). Applicants may not submit the same proposal for more than one program type.

To be considered for funding under the Preparation of Special Education, Early Intervention, and Related Services Leadership Personnel absolute priority, both Type A and Type B program applicants must meet the application requirements contained in the priority. All projects funded under the absolute priority also must meet the programmatic and administrative requirements specified in the priority.

These requirements are as follows:

(a) Demonstrate, in the narrative section of the application, under “Quality of Project Services,” how—

(1) The program prepares leadership personnel to address the specialized needs of high-need children with disabilities (as defined in the background statement for this absolute priority). To address the needs of this population, the proposed program must—

(i) Identify the competencies needed by leadership personnel to either effectively teach others how to implement, or directly administer or conduct further research on, programs or interventions that improve the academic or functional outcomes of high-need children with disabilities; and

(ii) Prepare leadership personnel to apply these competencies in a variety of settings, including in high-need LEAs,² high-poverty schools,³ and low-performing schools, including persistently lowest-achieving schools.⁴

² For purposes of this priority, the term high-need LEA means an LEA (a) that serves not fewer than 10,000 children from families with incomes below the poverty line; or (b) for which not less than 20 percent of the children served by the LEA are from families with incomes below the poverty line.

³ For the purposes of this priority, the term high-poverty school means a school in which at least 50 percent of students are eligible for free or reduced-price lunches under the Richard B. Russell National School Lunch Act or in which at least 50 percent of students are from low-income families as determined using one of the criteria specified under section 1113(a)(5) of the Elementary and Secondary Education Act of 1965, as amended. For middle and high schools, eligibility may be calculated on the basis of comparable data from feeder schools. Eligibility as a high-poverty school under this definition is determined on the basis of the most currently available data (http://www2.ed.gov/legislation/FedRegister/other/2010-4/121510b.html).

⁴ For purposes of this priority, the term persistently lowest-achieving schools is defined according to the final requirements for School Improvement Grants authorized under section 1003(g) of Title I of the Elementary and Secondary Education Act of 1965, as amended (ESEA), which were published in the Federal Register on October 28, 2010 (75 FR 66363). According to Section I.A.3 of these requirements, the term “persistently lowest-achieving schools” means, as determined by the State—

(a)(1) Any Title I school in improvement, corrective action, or restructuring that—

(i) Is among the lowest-achieving five percent of Title I schools in improvement, corrective action, or restructuring or the lowest-achieving five Title I schools in improvement, corrective action, or restructuring in the State, whichever number of schools is greater; or

(ii) Is a high school that has had a graduation rate as defined in 34 CFR 200.19(b) that is less than 60 percent over a number of years; and

(2) Any secondary school that is eligible for, but does not receive, Title I funds that—

(i) Is among the lowest-achieving five percent of secondary schools or the lowest-achieving five secondary schools in the State that are eligible for, but do not receive, Title I funds, whichever number of schools is greater; or

(ii) Is a high school that has had a graduation rate as defined in 34 CFR 200.19(b) that is less than 60 percent over a number of years.

(b) To identify the lowest-achieving schools, a State must take into account both—

(i) The academic achievement of the ”all students” group in a school in terms of proficiency on the State's assessments under section 1111(b)(3) of the ESEA in reading/language arts and mathematics combined; and

(ii) The school's lack of progress on those assessments over a number of years in the “all students” group.

(2) All relevant coursework for the proposed program reflects current research and pedagogy, as appropriate, on—

(i) Participation and achievement in the general education curriculum and improved outcomes for all children with disabilities, including high-need children with disabilities;

(ii) The provision of early intervention services in natural environments to improve outcomes for infants and toddlers with disabilities, including high-need children with disabilities and their families; and

(iii) The competencies needed to work in high-need LEAs, high-poverty schools, low-performing schools, including persistently lowest-achieving schools, and publically funded preschool programs, including Head Start programs and early intervention programs serving children eligible for services under Part C, located within the geographic boundaries of a high-need LEA.

(3) The program is designed to integrate coursework with practicum opportunities (e.g., interning in a program or school serving high-need children with disabilities) that will enhance the competencies of leadership personnel to effectively—

(i) Serve in a variety of positions, including positions that involve research, personnel preparation, or leadership at the university, SEA, State LA, LEA, local LA, school, or program level;

(ii) Work in a variety of leadership settings, particularly those in high-need LEAs with programs and schools serving high-need children with disabilities;

(iii) Collaborate and work with regular education personnel;

(iv) Incorporate universal design for learning principles ⁵ into curricula and instructional practice; and

⁵ For purposes of this priority, the term universal design for learning has the meaning provided for the term under the Higher Education Act of 1965, as amended: “a scientifically valid framework for guiding educational practice that—“(A) provides flexibility in the ways information is presented, in the ways students respond or demonstrate knowledge and skills, and in the ways students are engaged; and (B) reduces barriers in instruction, provides appropriate accommodations, supports, and challenges, and maintains high achievement expectations for all students, including students with disabilities and students who are limited English proficient” (20 U.S.C. 1003(24)). For consistency across U.S. Department of Education programs, we use this definition for priorities that intend to prepare personnel to teach and work in schools and other settings.

(v) Integrate instructional and assistive technologies into the delivery of services.

(4) The proposed leadership program ensures that scholars ⁶ are knowledgeable about—

⁶ For the purposes of this priority, the term scholar means an individual who is pursuing a degree, license, endorsement, or certification related to special education, related services, or early intervention services and who receives scholarship assistance under section 662 of IDEA (see 34 CFR 304.3(g)).

(i) Applicable laws that affect children with disabilities, including IDEA, the Elementary and Secondary Education Act of 1965, as amended (ESEA), and the Head Start Act, as appropriate;

(ii) The requirements for highly qualified teachers under IDEA and the ESEA;

(iii) The strategies that foster collaboration among personnel serving children with disabilities; and

(iv) The collection, analysis, and use of data on early learning outcomes,⁷ student achievement,⁸ or student growth ⁹ to improve teaching and learning.

⁷ For purposes of this priority, early learning outcomes are defined to include information on child development in the areas of physical well-being and motor development, social-emotional development, language and literacy development, and cognition and general knowledge, including early numeracy and early scientific development.

⁸ For the purpose of this priority student achievement means—(a) For tested grades and subjects: (1) A student's score on the State's assessments under the ESEA; and, as appropriate, (2) other measures of student learning, such as those described in paragraph (b) of this definition, provided they are rigorous and comparable across schools. (b) For non-tested grades and subjects: Alternative measures of student learning and performance, such as student scores on pre-tests and end-of-course tests; student performance on English language proficiency assessments; and other measures of student achievement that are rigorous and comparable across schools (http://www2.ed.gov/legislation/FedRegister/other/2010-4/121510b.html).

⁹ For the purposes of this priority student growth means the change in student achievement (as defined in this notice) for an individual student between two or more points in time. A State may also include other measures that are rigorous and comparable across classrooms (http://www2.ed.gov/legislation/FedRegister/other/2010-4/121510b.html).

(b) Include, in the narrative section of the application under “Quality of Project Evaluation,” a clear, effective plan for evaluating the outcomes of the proposed leadership project. The plan must include a description of how the project will—

(1) Incorporate the use of evaluation methodologies that demonstrate the effectiveness of the proposed program, including its effect on the acquisition of scholar competencies described in the application; and

(2) Objectively collect, analyze, and use these and other formative evaluation data to improve the program on an ongoing basis. In the application, the applicant must clearly describe how the project will report these evaluation results to OSEP in the grantee's annual and final performance reports.

(c) Include, in the application appendix, all course syllabi, in their entirety, for the proposed preparation program and a logic model that depicts, at a minimum, the goals, activities, outputs, and outcomes of the proposed project. A logic model communicates how a project will achieve its outcomes and provides a framework for both the formative and summative evaluations of the project.

Note: The following Web sites provide more information on logic models: http://www.researchutilization.org/matrix/logicmodel_resource3c.html and www.tadnet.org/model_and_performance.

(d) Include, in an application appendix, course syllabi that clearly incorporate research-based curriculum and pedagogy as required under paragraph (a) of this priority, along with the syllabi for all research methods, evaluation methods, or data analysis courses required by the degree program and elective research methods, evaluation methods, or data analysis courses that have been completed by more than one student enrolled in the program in the last four years.

(e) Provide, in the application narrative, a detailed description of the program that includes the sequence of courses offered in the program and a comprehensive curriculum designed to meet program goals and obtain mastery in the following professional domains, as appropriate—

(1) Research methodology;

(2) Personnel preparation;

(3) Policy or professional practice; or

(4) Administration practices or techniques.

(f) Demonstrate in the application narrative the existence of national, State, or regional needs using appropriate and applicable data. The applicant must provide evidence of the need for the leadership personnel they are proposing to prepare.

(g) Certify in the application that the applicant intends that all scholars recruited into the program will graduate from the program by the end of the grant's project period.

(h) Meet the statutory requirements in section 662(e) through 662(h) of IDEA.

(i) Ensure that at least 65 percent of the total requested budget per year will be used for scholar support or provide justification in the application narrative for any designation less than 65 percent. Examples of sufficient justification for proposing less than 65 percent of the budget for scholar support include:

(1) A project servicing rural areas that provides long-distance personnel preparation, and requires Web Masters, adjunct professors, or mentors to operate effectively.

(2) A project that is expanding or adding a new area of emphasis to the program and, as a result of this expansion, needs additional faculty or other resources, such as expert consultants, additional teaching supplies, or equipment that would enhance the program.

Note: Applicants proposing projects that expand or add a new area of emphasis to special education, early intervention, or related services programs must provide, in their applications, data on the need for the expansion and information on how these new areas will be sustained once Federal funding ends.

(j) Certify in the application that the institution will not require scholars recruited into the program to work as a condition of receiving a scholarship (e.g., as graduate assistants), unless the work is required to complete their personnel preparation program. Please note that this prohibition on work as a condition of receiving a scholarship does not apply to the service obligation requirements in section 662(h) of IDEA.

(k) Budget for attendance at a three-day Project Directors' meeting in Washington, DC, during each year of the project.

(l) If the project maintains a Web site, include relevant information and documents in a format that meets government or industry-recognized standards for accessibility.

(m) Submit annual data on each scholar who receives grant support. Applicants are encouraged to visit the Personnel Development Scholar Data Report Web site at: http://oseppdp.ed.gov for further information about this data collection requirement. Typically, data collection begins on or around November 1st of each year, and grantees are notified by e-mail about the data collection period for their grant. This data collection must be submitted electronically by the grantee and does not supplant the annual grant performance report required of each grantee for continuation funding (see 34 CFR 75.590).

Competitive Preference Priorities: Within this absolute priority, we give competitive preference to applications that meet one or more of the following priorities. For FY 2011 and any subsequent year in which we make awards from the list of unfunded applicants from this competition, these priorities are competitive preference priorities.

Competitive Preference Priority 1: Under 34 CFR 75.105(c)(2)(i) we award an additional 5 points to an application that meets this priority.

This priority is:

Applicants for Type A or Type B programs that demonstrate an established relationship with one or more high-need LEAs or publically-funded preschool programs, including Head Start programs or early intervention programs serving children eligible for services under Part C of the IDEA, located within the geographic boundaries of a high-need LEA that will provide scholars with a high-quality practicum experience in a high-poverty school, which may include a professional development school, or in a publically-funded preschool or early intervention program.

Competitive Preference Priority 2: Under 34 CFR 75.105(c)(2)(i) we award an additional 5 points to an application that meets this priority.

This priority is:

Applicants for Type B programs that provide a syllabus or syllabi for a new or existing course, or series of courses, that show(s) that the course or courses include or will include: (1) A discussion of applicable research and evaluation findings on the use of data on early learning outcomes, student achievement, or student growth in evaluating the effectiveness of early intervention providers, related services providers, teachers, and principals; (2) methodological and statistical considerations in conducting an evaluation of the effectiveness of these personnel based on early learning outcomes, student achievement, or student growth data; and (3) an opportunity for scholars to review and critique one or more real-world applications of evaluating the effectiveness of early intervention providers, related services providers, teachers, and principals.

Competitive Preference Priority 3: Under 34 CFR 75.105(c)(2)(i) we award an additional 5 points to an application that meets this priority.

This priority is:

Applicants for Type A or Type B programs that prepare leadership personnel who will prepare others to work with children, including infants and toddlers, who are deaf or hard of hearing to teach them listening and spoken language skills.

Note: Five is the maximum amount of competitive preference points an applicant can receive. Applicants must include in the one-page abstract submitted with the application a statement indicating which competitive preference priorities they have addressed.

References:

Lashley, C., & Boscardin, M.L. (2003). Special education administration at the crossroads: Availability, licensure, and preparation of special education administrators. Gainesville, FL: Center on Personnel Studies in Special Education, University of Florida. Retrieved February 24, 2010, from http://www.coe.ufl.edu/copsse/docs/IB-8/1/IB-8.pdf.

National Council for Accreditation of Teacher Education (2009). What is a professional development school? Retrieved June 29, 2009, from http://www.ncate.org/public/.

Smith, D. D., Pion, G. M., & Tyler, N. C. (2004). Leadership personnel in special education: Can persistent shortages be resolved? In A.M. Sorells, H.J., Rieth and P. T. Sindelar (Eds.), Critical Issues in Special Education: Access, Diversity, and Accountability (pp. 258-276). New York: Pearson, Allyn & Bacon.

Smith, D. D., Robb, S. M., West, J., & Tyler, N. C. (2010). The changing education landscape: How special education leadership preparation can make a difference for teachers and their students with disabilities. Teacher Education and Special Education, 33(1), 25-43.

Wasburn-Moses, L., & Therrien, W.J. (2008). The impact of Leadership Personnel Grants on the doctoral student population in special education. Teacher Education and Special Education, 31(2), 1-12.

Woods, J., & Snyder, P. (2009). Interdisciplinary doctoral leadership training in early intervention. Infants & Young Children, (22)1, 32-4.

Absolute Priority 2—Personnel Preparation in Special Education, Early Intervention, and Related Services (84.325K).

Background: State demand for fully credentialed early intervention, special education, and related services personnel to serve infants, toddlers, and children with disabilities exceeds the available supply (Bruder, 2004a; Bruder 2004b; McLeskey & Billingsley, 2008; and McLeskey, Tyler & Flippin, 2004). For example, the existing 65 deaf or hard of hearing teacher preparation programs, generating teachers at their current rate, will not be able to adequately address the increasing number of students qualifying for such services. Personnel shortages can negatively impact the quality of services provided to infants, toddlers, and children with disabilities and their families when positions are not filled by fully credentialed personnel (McLeskey et.al, 2004).

Personnel preparation programs that prepare personnel to enter the fields of early intervention, special education, and related services with the necessary skills and knowledge to implement evidence-based practices are critical to meet the personnel shortages in the field. Federal support of personnel preparation programs is needed to increase the supply of personnel with the necessary skills and knowledge to successfully serve infants, toddlers, and children with disabilities and their families.

Priority: The purpose of the Personnel Preparation in Special Education, Early Intervention, and Related Services priority is to improve the quality and increase the number of personnel who are fully credentialed to serve children, including infants and toddlers, with disabilities—especially in areas of chronic personnel shortage—by supporting projects that prepare early intervention, special education, and related services personnel at the associate, baccalaureate, master's, and specialist levels. In order to be eligible under this priority, programs must prepare and support scholars ¹⁰ to complete, within the project period of the grant, a degree, State certification, professional license, or State endorsement in early intervention, special education, or a related services field. Programs preparing scholars to be special education paraprofessionals, assistants in related services professions (e.g., physical therapist assistants, occupational therapist assistants), or educational interpreters are also eligible under this priority.

¹⁰ For the purposes of this priority the term scholar means an individual who is pursuing a degree, license, endorsement, or certification related to special education, related services, or early intervention services and who receives scholarship assistance under section 662 of IDEA (see 34 CFR 304.3(g)).

Programs that provide an alternate route to certification or that support dual certification (special education and regular education) for teachers are eligible as well.

To be considered for funding under the Personnel Preparation in Special Education, Early Intervention, and Related Services absolute priority, applicants must meet the application requirements contained in the priority. All projects funded under this absolute priority also must meet the programmatic and administrative requirements specified in the priority. These requirements are as follows:

(a) Demonstrate, in the narrative section of the application under “Quality of Project Services,” how—

(1) Personnel preparation requirements and required coursework for the proposed program incorporate research-based practices that improve outcomes for children with disabilities (including relevant research citations);

(2) The program is designed to integrate coursework with practicum opportunities that will enhance the competencies of special education personnel to effectively—

(i) Serve and instruct children with disabilities;

(ii) Collaborate and work with regular education personnel;

(iii) Incorporate universal design for learning principles ¹¹ into curricula and instructional practice;

¹¹ For purposes of this priority, the term universal design for learning has the meaning provided for the term under the Higher Education Act of 1965, as amended: “a scientifically valid framework for guiding educational practice that—“(A) provides flexibility in the ways information is presented, in the ways students respond or demonstrate knowledge and skills, and in the ways students are engaged; and (B) reduces barriers in instruction, provides appropriate accommodations, supports, and challenges, and maintains high achievement expectations for all students, including students with disabilities and students who are limited English proficient.” (20 U.S.C. 1003(24)) For consistency across U.S. Department of Education programs, we use this definition for priorities that intend to prepare personnel to teach and work in schools and other settings.

(iv) Integrate instructional and assistive technologies into the delivery of services;

(v) Collect, analyze, and use data on early learning outcomes,¹² student achievement,¹³ or student growth ¹⁴ in order to improve instructional practices and interventions; and

¹² For purposes of this priority, early learning outcomes are defined to include information on child development in the areas of physical well-being and motor development, social-emotional development, language and literacy development, and cognition and general knowledge, including early numeracy and early scientific development.

¹³ For the purpose of this priority student achievement means—(a) For tested grades and subjects: (1) A student's score on the State's assessments under the ESEA; and, as appropriate, (2) other measures of student learning, such as those described in paragraph (b) of this definition, provided they are rigorous and comparable across schools. (b) For non-tested grades and subjects: Alternative measures of student learning and performance, such as student scores on pre-tests and end-of-course tests; student performance on English language proficiency assessments; and other measures of student achievement that are rigorous and comparable across schools (http://www2.ed.gov/legislation/FedRegister/other/2010-4/121510b.html).

¹⁴ For the purposes of this priority student growth means the change in student achievement (as defined in this notice) for an individual student between two or more points in time. A State may also include other measures that are rigorous and comparable across classrooms (http://www2.ed.gov/legislation/FedRegister/other/2010-4/121510b.html).

(vi) Support and work with parents and families of children with disabilities;

(3) The program prepares personnel to address the specialized needs of high-need children with disabilities.

Note: For the purpose of this priority, “high-need children with disabilities” refers to children (ages birth through twenty-one, depending on the State) who are eligible for services under IDEA, and who may be further disadvantaged and at risk of educational failure because they: (1) Are living in poverty, (2) are far below grade level, (3) are at risk of not graduating with a regular high school diploma on time, (4) are homeless, (5) are in foster care, (6) have been incarcerated, (7) are English learners, (8) are pregnant or parenting teenagers, (9) are new immigrants, (10) are migrant, or (11) are not on track to being college- or career-ready by graduation.

The program prepares personnel to work with this particular population by—

(i) Identifying the competencies needed by early intervention, special education, and related services personnel to work with high-need children with disabilities;

(ii) Preparing personnel to apply these competencies in a variety of settings, including in high-need LEAs,¹⁵ high-poverty schools,¹⁶ low-performing schools, including the persistently lowest-achieving schools,¹⁷ and publically-funded preschool programs, including Head Start programs and early intervention programs serving children eligible for services under Part C, located within the geographic boundaries of a high-need LEA, as appropriate.

¹⁵ For purposes of this priority, the term high-need LEA means an LEA (a) that serves not fewer than 10,000 children from families with incomes below the poverty line; or (b) for which not less than 20 percent of the children served by the LEA are from families with incomes below the poverty line.

¹⁶ For the purposes of this priority, the term high-poverty school means a school in which at least 50 percent of students are eligible for free or reduced-price lunches under the Richard B. Russell National School Lunch Act or in which at least 50 percent of students are from low-income families as determined using one of the criteria specified under section 1113(a)(5) of the Elementary and Secondary Education Act of 1965, as amended. For middle and high schools, eligibility may be calculated on the basis of comparable data from feeder schools. Eligibility as a high-poverty school under this definition is determined on the basis of the most currently available data (http://www2.ed.gov/legislation/FedRegister/other/2010-4/121510b.html).

¹⁷ For purposes of this priority, the term persistently lowest-achieving schools is defined according to the final requirements for School Improvement Grants authorized under section 1003(g) of Title I of the Elementary and Secondary Education Act of 1965, as amended (ESEA), which were published in the Federal Register on October 28, 2010 (75 FR 66363). According to Section I.A.3 of these requirements, the term “persistently lowest-achieving schools” means, as determined by the State—

(a)(1) Any Title I school in improvement, corrective action, or restructuring that—

(i) Is among the lowest-achieving five percent of Title I schools

in improvement, corrective action, or restructuring or the lowest-achieving five Title I schools in improvement, corrective action, or restructuring in the State, whichever number of schools is greater; or

(ii) Is a high school that has had a graduation rate as defined in 34 CFR 200.19(b) that is less than 60 percent over a number of years; and

(2) Any secondary school that is eligible for, but does not receive, Title I funds that—

(i) Is among the lowest-achieving five percent of secondary schools or the lowest-achieving five secondary schools in the State that are eligible for, but do not receive, Title I funds, whichever number of schools is greater; or

(ii) Is a high school that has had a graduation rate as defined in 34 CFR 200.19(b) that is less than 60 percent over a number of years.

(b) To identify the lowest-achieving schools, a State must take into account both—

(i) The academic achievement of the ”all students” group in a school in terms of proficiency on the State's assessments under section 1111(b)(3) of the ESEA in reading/language arts and mathematics combined; and

(ii) The school's lack of progress on those assessments over a number of years in the “all students” group.

(4) The program is designed to provide extended clinical learning opportunities,¹⁸ field experiences, or supervised practica (such as an additional year), and ongoing high-quality mentoring and induction opportunities for scholars (as defined in 34 CFR 304.3(g));

¹⁸ For the purposes of this priority, the term clinical learning opportunities are a method of instruction for students to apply knowledge and skills in highly controlled or simulated situations to ensure that they possess needed skills and competencies prior to entering actual or typical environments with children with disabilities.

(5) The preparation program will—

(i) Enable scholars to be highly qualified, in accordance with section 602(10) of the Individuals with Disabilities Education Act (IDEA) and 34 CFR 300.18, in the State(s) to be served by the applicant; and

(ii) Ensure that scholars are equipped with the knowledge and skills necessary to assist children in meeting State academic achievement standards; and

(6) The preparation program provides support to scholars through innovative strategies that are designed to enhance scholar retention and success in the program, such as using tutors or mentors or providing extended clinical learning opportunities or other field experiences.

(b) Include, in the narrative section of the application under “Quality of Project Evaluation,” a clear, effective plan for evaluating project outcomes. This plan must include a description of how the project will—

(1) Collect and analyze data on scholars' competencies;

(2) Collect and analyze data on the quality of services provided by program graduates, including data on their students' outcomes (e.g., academic, social, emotional, behavioral) and growth; and

(3) Use the results and findings from this evaluation as a basis for improving the program for future scholars. Applicants also must clearly describe how the project will report these evaluation results to OSEP in the grantee's annual and final performance reports.

Note: Under this evaluation requirement, grantees are encouraged—but not required—to engage in data collection activities after the completion of the grant.

(c) Include, in the application appendix, all course syllabi, in their entirety, for the proposed preparation program and a logic model that depicts, at a minimum, the goals, activities, outputs, and outcomes of the proposed project. A logic model communicates how a project will achieve its outcomes and provides a framework for both the formative and summative evaluations of the project.

Note: The following Web sites provide more information on logic models: http://www.researchutilization.org/matrix/logicmodel_resource3c.html and http://www.tadnet.org/model_and_performance.

(d) Ensure that course syllabi for the preparation program incorporate research-based curriculum and pedagogy as required under paragraph (a) of this priority.

(e) Certify in the application that the applicant intends that all scholars recruited into the program will graduate from the program by the end of the grant's project period.

(f) Certify in the application that the institution will not require scholars recruited into the program to work as a condition of receiving a scholarship (e.g., as graduate assistants), unless the work is required to complete their preparation program. Please note that this prohibition on work as a condition of receiving a scholarship does not apply to the service obligation requirements in section 662(h) of IDEA.

(g) Meet the statutory requirements contained in section 662(e) through 662(h) of IDEA.

(h) Ensure that at least 65 percent of the total requested budget per year be used for scholar support.

(i) Budget for attendance at a three-day Project Directors' meeting in Washington, DC, during each year of the project.

(j) If the project maintains a Web site, include relevant information and documents in a form that meets government or industry-recognized standards for accessibility.

(k) Submit annual data on each scholar who receives grant support. Applicants are encouraged to visit the Personnel Development Scholar Data Report Web site at http://oseppdp.ed.gov for further information about this data collection requirement. Typically, data collection begins on or around November 1st of each year, and grantees are notified by e-mail about the data collection period for their grant. This data collection must be submitted electronically by the grantee and does not supplant the annual grant performance report required of each grantee for continuation funding (see 34 CFR 75.590).

Focus Areas: Within this absolute priority, the Secretary intends to support projects under the following five focus areas: (A) Preparing Personnel to Serve Infants, Toddlers, and Preschool-Age Children with Disabilities; (B) Preparing Personnel to Serve School-Age Children with Low-Incidence Disabilities; (C) Preparing Personnel to Provide Related Services to Children, Including Infants and Toddlers, with Disabilities; (D) Preparing Personnel in Minority Institutions to Serve Children, Including Infants and Toddlers, with Disabilities; and (E) Preparing Personnel to Provide Secondary Transition Services to School-Age Children with Disabilities.

Note: Applicants must identify the specific focus area (i.e., A, B, C, D, or E) under which they are applying as part of the competition title on the application cover sheet (SF form 424, line 4). Applicants may not submit the same proposal under more than one focus area.

Focus Area A: Preparing Personnel to Serve Infants, Toddlers, and Preschool-Age Children with Disabilities. OSEP intends to fund 9 awards under this focus area. For the purpose of Focus Area A, early intervention personnel are those who are prepared to provide services to infants and toddlers with disabilities ages birth to three, and early childhood personnel are those who are prepared to provide services to children with disabilities ages three through five (in States where the age range is other than ages three through five, we will defer to the State's certification for early childhood). In States where certification in early intervention is combined with certification in early childhood, applicants may propose a combined early intervention and early childhood personnel preparation project under this focus area. We encourage interdisciplinary projects under this focus area. For purposes of this focus area, interdisciplinary projects are projects that implement common core content and practicum experiences across disciplines for early intervention providers or early childhood special educators, and related services personnel to serve infants, toddlers, and preschool-age children with disabilities. Projects preparing only related services personnel to serve infants, toddlers, and preschool-age children with disabilities are not eligible under this focus area (see Focus Area C).

Focus Area B: Preparing Personnel to Serve School-Age Children with Low-Incidence Disabilities. OSEP intends to fund 11 awards in this focus area. For the purpose of Focus Area B, personnel who serve children with low-incidence disabilities are special education personnel, including paraprofessionals, prepared to serve school-age children with low-incidence disabilities including visual impairments, hearing impairments, simultaneous vision and hearing impairments, significant intellectual disabilities, orthopedic impairments, autism, and traumatic brain injury. Programs preparing special education personnel to provide services to visually impaired or blind children that can be appropriately provided in braille must prepare those individuals to provide those services in braille. Projects preparing educational interpreters are eligible under this focus area. Projects preparing other related services, speech and language, or adapted physical education personnel are not eligible under this focus area (see Focus Area C). Projects preparing special education, early intervention, or preschool personnel are not eligible under this focus area (see Focus Area A).

Focus Area C: Preparing Personnel to Provide Related Services to Children, Including Infants and Toddlers, with Disabilities. OSEP intends to fund 9 awards in this focus area. Programs preparing related services personnel to serve children, including infants and toddlers, with disabilities are eligible within Focus Area C. For the purpose of this focus area, related services include, but are not limited to, psychological services, physical therapy (including therapy provided by personnel prepared at the Doctor of Physical Therapy (DPT) level), adapted physical education, occupational therapy, therapeutic recreation, social work services, counseling services, audiology services (including services provided by personnel prepared at the Doctor of Audiology (DAud) level), and speech and language services. Preparation programs in States where personnel prepared to serve children with speech and language impairments are considered to be special educators are eligible under this focus area. Projects preparing educational interpreters are not eligible under this focus area (see Focus Area B).

Focus Area D: Preparing Personnel in Minority Institutions to Serve Children, Including Infants and Toddlers, with Disabilities. OSEP intends to fund 10 awards in this focus area. Programs in minority institutions are eligible under Focus Area D if they prepare: (a) Personnel to serve one or more of the following: infants, toddlers, and preschool-age children with disabilities; (b) personnel to serve school-age children with low-incidence disabilities; (c) personnel to provide related services to children, including infants and toddlers, with disabilities; or (d) personnel to provide secondary transition services to school-age children with disabilities. Minority institutions include institutions with a minority enrollment of 25 percent or more, which may include Historically Black Colleges and Universities, Tribal Colleges, and Predominantly Hispanic Serving Colleges and Universities. Programs in minority institutions preparing personnel in Focus Areas A, B, C, and E are eligible within Focus Area D. Programs that are preparing high-incidence special education personnel are not eligible under this priority (for the purpose of this priority “high-incidence disabilities” refers to learning disabilities, emotional disturbance, or intellectual disabilities). However, programs that are preparing high-incidence special education personnel are eligible under Absolute Priority 3 described elsewhere in this notice.

Note: A project funded under Focus Area D may budget for less than 65 percent, the required percentage, for scholar support if the applicant can provide sufficient justification for any designation less than this required percentage. Sufficient justification for proposing less than 65 percent of the budget for scholar support would include support for activities such as program development, program expansion, or the addition of a new area of emphasis. Some examples of projects that may be eligible to designate less than 65 percent of their budget for scholar support include the following:

(1) A project that is proposing to start a new program may request up to a year for program development and capacity building. In the initial project year, no scholar support would be required. Instead, a project could hire a new faculty member or a consultant to assist in program development.

(2) A project that is proposing to build capacity may hire a field supervisor so that additional scholars can be prepared.

(3) A project that is proposing to expand or add a new area of emphasis to the program may hire additional faculty or obtain other resources such as expert consultants, additional teaching supplies, or equipment that would enhance the program.

Note: Applicants proposing projects to develop, expand, or add a new area of emphasis to special education or related services programs must provide, in their applications, information on how these new areas will be sustained once Federal funding ends.

Focus Area E: Preparing Personnel to Provide Secondary Transition Services to School-Age Children with Disabilities. OSEP intends to fund 9 awards in this focus area. Programs that offer a sequence of career, vocational, or secondary transition courses or that enable personnel to meet State requirements for a credential or endorsement in secondary transition services for children with disabilities are eligible under Focus Area E. Eligible applicants must establish partnerships with the appropriate personnel in the institution's vocational rehabilitation counseling and career and technical education programs, if those programs are offered at the institution. Funds may be used to support faculty from those programs for their involvement in the activities outlined in this priority. Applicants must also provide documentation of the partnership in the form of a letter from the Dean or Department Chair. This letter must describe how the faculty from those programs will be involved in the partnership (e.g., involvement in the design and delivery of courses and the supervision of scholar practicum experiences).

Competitive Preference Priorities: Within this absolute priority, we give competitive preference to applications that meet one or more of the following priorities. For FY 2011 and any subsequent year in which we make awards from the list of unfunded applicants from this competition, these priorities are competitive preference priorities.

Competitive Preference Priority 1: Under 34 CFR 75.105(c)(2)(i) we award an additional 5 points to an application that meets this priority.

Applicants that demonstrate an established relationship with one or more high-need LEAs (as defined in this absolute priority) or publically funded preschool programs, including Head Start programs or early intervention programs serving children who are eligible for services under Part C of the IDEA, located within the geographic boundaries of a high-need LEA that will provide scholars with a high-quality practicum experience in a high-poverty school (as defined in this absolute priority), which may include a professional development school, or a publically funded preschool program or early intervention program and provide opportunities for research-based professional development on strategies to better serve high-need children with disabilities.

Competitive Preference Priority 2: Under 34 CFR 75.105(c)(2)(i) we award an additional 5 points to an application that meets this priority.

This priority is:

In Focus Area D, applicants that document that they are institutions with minority enrollment of 50 percent or more.

Competitive Preference Priority 3: Under 34 CFR 75.105(c)(2)(i) we award an additional 5 points to an application that meets this priority.

This priority is:

In Focus Areas A, B, C, and D, applicants that prepare personnel who work with children, including infants and toddlers, who are deaf or hard of hearing to teach them listening and spoken language skills.

Note: Five is the maximum amount of competitive preference points an applicant can receive. Applicants must include in the one-page abstract submitted with the application, a statement indicating which competitive preference priorities they have addressed.

References:

Bruder, M.B. (December, 2004a). The National Landscape of Early Intervention in Personnel Preparation Standards under Part C of the Individuals with Disabilities Education Act (IDEA). A.J. Pappanikou Center for Excellence in Developmental Disabilities, Farmington, CT. Available at: http://www.uconnucedd.org/projects/per_prep/per_prep_resources.html.

Bruder, M.B. (December, 2004b). The National Landscape of Early Intervention and Early Childhood Special Education: 619 Data Report. A.J. Pappanikou Center for Excellence in Developmental Disabilities, Farmington, CT. Available at: http://www.uconnucedd.org/projects/per_prep/per_prep_resources.html.

McLeskey, J. Billingsley, B. (2008). How does the quality and stability of the teaching force influence the research-to-practice gap? Remedial and Special Education, 29 (5), 293-305.

McLeskey, J., Tyler, N., & Flippin, S.S. (2004). The supply and demand for special education teachers: A review of research regarding the chronic shortage of special education teachers. Journal of Special Education, 38 (1), 5-21.

Absolute Priority 3—Special Education Preservice Program Improvement Grants (84.325T).

Background: State educational agencies (SEAs), institutions of higher education (IHEs), and local educational agencies (LEAs) consistently report that personnel preparation programs for kindergarten through grade 12 (K-12) special education teachers should be restructured or redesigned so that graduates of these programs meet the highly qualified teacher (HQT) requirements in the Individuals with Disabilities Education Act (IDEA). To accomplish this goal, personnel preparation programs must ensure that their graduates who expect to be providing instruction in a core academic subject are able to meet State special education certification or licensure requirements, as well as have the necessary content knowledge, consistent with the HQT requirements in IDEA.

In A Blueprint for Reform: The Reauthorization of the Elementary and Secondary Education Act (ESEA) (Blueprint),¹⁹ the Department notes that “[r]esearch shows that top-performing teachers can make a dramatic difference in the achievement of their students, and suggests that the impact of being assigned to top-performing teachers year after year is enough to significantly narrow achievement gaps.” Reflecting this research, in both the Department's Notice of Final Supplemental Priorities ²⁰ and the Blueprint, the Department has called for evaluating teacher effectiveness using multiple measures, including, in significant part, the academic growth of a teacher's students. High-quality information on teacher effectiveness that is based on multiple measures can be used to provide feedback to teachers for on-going improvement and support teachers' access to effective preparation, on-going support, recognition, and the collaboration opportunities teachers need to succeed.

¹⁹ The following Web site provides more information on A Blueprint for Reform: The Reauthorization of the Elementary and Secondary Education Act (ESEA): http://www2.ed.gov/policy/elsec/leg/blueprint/blueprint.pdf.

²⁰ The following link provides more information on the Supplemental Priorities for Discretionary Grants, published in the Federal Register on December 15, 2010 (75 FR 78486): http://edocket.access.gpo.gov/2010/pdf/2010-31189.pdf.

Priority: The purpose of this priority is to support the improvement and restructuring (through expansion or redesign) of K-12 special education teacher preparation programs to ensure that program graduates meet the HQT requirements in IDEA and effectively serve children with high-incidence disabilities. For the purposes of this priority, the term high-incidence disabilities refers to learning disabilities, emotional disturbance, or intellectual disabilities. In order to be eligible under this priority, applicants must currently prepare special education personnel (at the baccalaureate or master's level) to serve school-age children with high-incidence disabilities.

Note 1: This priority only supports the improvement or restructuring of existing programs for high-incidence personnel (for example, the expansion of a program for elementary school teachers to include a program for secondary school teachers serving children with high-incidence disabilities). This priority does not support the development of new programs for high-incidence personnel. In addition, this priority does not support the improvement of programs in IHEs that are preparing preschool teachers.

Note 2: No more than one cooperative agreement will be awarded under this priority per IHE during the five-year project period.

To be considered for funding under the Special Education Preservice Program Improvement Grants priority, applicants must meet the application requirements contained in the priority. All projects funded under the absolute priority also must meet the programmatic and administrative requirements specified in the priority. These requirements are as follows:

(a) Demonstrate, in the narrative section of the application under “Quality of Project Services,” how—

(1) The first year of the project period will be used for planning an improved or restructured K-12 teacher preparation program that includes induction and mentoring for program participants in LEAs. The planning activities during the first year must include revising the curriculum, integrating evidence-based interventions that improve outcomes for children with high-incidence disabilities into the improved or restructured program (including providing research citations for those evidence-based interventions), and utilizing existing high-quality training resources on evidence-based interventions, such as those developed by OSEP-funded Centers (e.g., IDEA '04 and Research For Inclusive Settings Center for Training Enhancements (see http://www.iris.peabody.vanderbilt.edu); National Center on Response to Intervention (see http://www.rti4success.org)). Applicants must describe first-year activities, document the specific evidence-based interventions to be included in the improved or restructured program, and include a five-year timeline and implementation plan in their applications. This plan must describe the proposed project activities associated with implementation of the improved or restructured program. Implementation of the plan may not begin without approval from OSEP;

(2) The improved or restructured program is designed to integrate coursework with practicum opportunities that will enhance the competencies of beginning special education teachers to—

(i) Collaborate and work with regular education teachers and other personnel to:

(A) Provide effective services and instruction in academic subjects to children with high-incidence disabilities in K-12 regular education classrooms.

(B) Address the challenges of serving high-need children with disabilities;

Note: For the purpose of this priority, “high-need children with disabilities” refers to children (ages birth through twenty-one, depending on the State) who are eligible for services under IDEA, and who may be further disadvantaged and at risk of educational failure because they: (1) Are living in poverty, (2) are far below grade level, (3) are at risk of not graduating with a regular high school diploma on time, (4) are homeless, (5) are in foster care, (6) have been incarcerated, (7) are English learners, (8) are pregnant or parenting teenagers, (9) are new immigrants, (10) are migrant, or (11) are not on track to being college- or career-ready by graduation.

(ii) Incorporate universal design for learning principles ²¹ into curricula and instructional practice;

²¹ For purposes of this priority, the term universal design for learning under the Higher Education Act of 1965, as amended: “a scientifically valid framework for guiding educational practice that—“(A) provides flexibility in the ways information is presented, in the ways students respond or demonstrate knowledge and skills, and in the ways students are engaged; and (B) reduces barriers in instruction, provides appropriate accommodations, supports, and challenges, and maintains high achievement expectations for all students, including students with disabilities and students who are limited English proficient” (20 U.S.C. 1003(24)). For consistency across U.S. Department of Education programs, we use this definition for priorities that intend to prepare personnel to teach and work in schools and other settings.

(iii) Integrate instructional and assistive technologies into the delivery of services;

(iv) Collect, analyze, and use data, including data on student achievement ²² and student growth,²³ to improve instructional practices and interventions; and

²² For the purpose of this priority student achievement means—(a) For tested grades and subjects: (1) A student's score on the State's assessments under the ESEA; and, as appropriate, (2) other measures of student learning, such as those described in paragraph (b) of this definition, provided they are rigorous and comparable across schools. (b) For non-tested grades and subjects: Alternative measures of student learning and performance, such as student scores on pre-tests and end-of-course tests; student performance on English language proficiency assessments; and other measures of student achievement that are rigorous and comparable across schools (http://www2.ed.gov/legislation/FedRegister/other/2010-4/121510b.html).

²³ For the purposes of this priority student growth means the change in student achievement (as defined in this notice) for an individual student between two or more points in time. A State may also include other measures that are rigorous and comparable across classrooms (http://www2.ed.gov/legislation/FedRegister/other/2010-4/121510b.html).

(v) Support and work with parents and families of children with disabilities;

(3) The improved or restructured program is designed to prepare special education teachers to address the specialized needs of high-need children with disabilities (as defined in this absolute priority) with high-incidence disabilities by identifying the competencies that special education teachers need to work effectively with this population;

(4) The improved or restructured program is designed to provide extended clinical learning opportunities,²⁴ field experiences, or supervised practica and ongoing high-quality mentoring and induction opportunities in local schools. Applicants also must demonstrate how they will utilize high-quality resources when designing the program to provide extended clinical learning opportunities, field experiences, or supervised practica (resources on these topics are available from the National Center to Inform Policy and Practice in Special Education Professional Development at http://www.ncipp.org);

²⁴ For the purposes of this priority, clinical learning opportunities are a method of instruction for students to apply knowledge and skills in highly controlled or simulated situations to ensure that they possess needed skills and competencies prior to entering actual or typical environments with children with disabilities.

(5) The improved or restructured program is designed to include field-based training opportunities in diverse settings including high-need LEAs,²⁵ high-poverty schools,²⁶ and low-performing schools, including the persistently lowest-achieving schools;²⁷

²⁵ For purposes of this priority, the term high-need LEA means an LEA (a) that serves not fewer than 10,000 children from families with incomes below the poverty line; or (b) for which not less than 20 percent of the children served by the LEA are from families with incomes below the poverty line.

²⁶ For purposes of this priority, the term high-poverty school means a school in which at least 50 percent of students are eligible for free or reduced-price lunches under the Richard B. Russell National School Lunch Act or in which at least 50 percent of students are from low-income families as determined using one of the criteria specified under section 1113(a)(5) of the Elementary and Secondary Education Act of 1965, as amended. For middle and high schools, eligibility may be calculated on the basis of comparable data from feeder schools. Eligibility as a high-poverty school under this definition is determined on the basis of the most currently available data (http://www2.ed.gov/legislation/FedRegister/other/2010-4/121510b.html).

²⁷ For purposes of this priority, the term persistently lowest-achieving schools is defined according to the final requirements for School Improvement Grants authorized under section 1003(g) of Title I of the Elementary and Secondary Education Act of 1965, as amended (ESEA), which were published in the Federal Register on October 28, 2010 (75 FR 66363). According to Section I.A.3 of these requirements, the term “persistently lowest-achieving schools” means, as determined by the State—

(a)(1) Any Title I school in improvement, corrective action, or restructuring that—

(i) Is among the lowest-achieving five percent of Title I schools in improvement, corrective action, or restructuring or the lowest-achieving five Title I schools in improvement, corrective action, or restructuring in the State, whichever number of schools is greater; or

(ii) Is a high school that has had a graduation rate as defined in 34 CFR 200.19(b) that is less than 60 percent over a number of years; and

(2) Any secondary school that is eligible for, but does not receive, Title I funds that—

(i) Is among the lowest-achieving five percent of secondary schools or the lowest-achieving five secondary schools in the State that are eligible for, but do not receive, Title I funds, whichever number of schools is greater; or

(ii) Is a high school that has had a graduation rate as defined in 34 CFR 200.19(b) that is less than 60 percent over a number of years.

(b) To identify the lowest-achieving schools, a State must take into account both—

(i) The academic achievement of the “all students” group in a school in terms of proficiency on the State's assessments under section 1111(b)(3) of the ESEA in reading/language arts and mathematics combined; and

(ii) The school's lack of progress on those assessments over a number of years in the “all students” group.

(6) The improved or restructured program will—

(i) Enable scholars ²⁸ to be highly qualified, in accordance with section 602(10) of IDEA and 34 CFR 300.18, in the State(s) to be served by the applicant; and

²⁸ For the purposes of this priority, the term scholar means an individual who is pursuing a baccalaureate or master's level degree related to special education.

(ii) Ensure that scholars are equipped with the knowledge and skills necessary to assist children in meeting State academic achievement standards;

(7) The improved or restructured program is designed to provide support systems (including tutors, mentors, and other innovative practices) to enhance retention in and successful completion of the program; and

(8) The improved or restructured program will be maintained once Federal funding ends.

(b) For programs that will be restructured to produce graduates who meet the HQT requirements for teachers who teach core academic subjects, applicants must establish partnerships with the appropriate academic departments. Funds may be used to support faculty from the academic departments for their involvement in the activities outlined in paragraph (a)(4) of this priority. To address this requirement, applications must—

(1) Describe how representatives of relevant academic departments with expertise in the core academic subjects being addressed in the application will be involved in the partnership;

(2) Provide evidence that such partnerships will include a permanent faculty member from the appropriate academic departments, who will be involved in developing the overall project and designing the curriculum used to prepare scholars in the particular core academic subject; and

(3) Provide evidence that permanent faculty members from the appropriate academic departments participated in the design of the program.

(c) Develop and implement a plan to ensure that program faculty have the necessary supports, knowledge, and skills to implement the new interventions and curriculum in the improved or restructured program.

(d) Include, in the narrative section of the application under “Quality of Project Evaluation,” a clear plan for evaluating project outcomes. This plan must include a description of how the project will—

(1) Measure the extent to which evidence-based interventions are integrated within the program;

(2) Collect and analyze data on faculty members' implementation of the improved or restructured program;

(3) Collect and analyze data on scholars' competencies;

(4) Collect and analyze data on the quality of services provided by program graduates, including data on their students' outcomes (e.g., academic, social, emotional, behavioral) and student growth; and

(5) Use the results and findings from this evaluation as a basis for informing and validating any proposed changes to the improved or restructured program. Applicants also must clearly describe how the project will report these evaluation results to OSEP in the grantee's annual and final performance reports.

Note: Under this evaluation requirement, grantees are encouraged—but not required—to engage in data collection activities after the completion of the grant.

(e) Include, in the application appendix, all course syllabi, in their entirety, for the existing teacher preparation program and a logic model that depicts, at a minimum, the goals, activities, outputs, and outcomes of the proposed project. A logic model communicates how a project will achieve its outcomes and provides a framework for both the formative and summative evaluations of the project.

Note: The following Web sites provide more information on logic models: http://www.researchutilization.org/matrix/logicmodel_resource3c.html and http://www.tadnet.org/model_and_performance.

(f) Submit to the Department, at the end of the first year of the project period, revised syllabi for the improved teacher preparation program.

(g) Meet the statutory requirements in section 662(e) through 662(f) of IDEA.

(h) Budget for planning and improvement activities, including any activities to be performed by consultants. This priority does not provide financial support for scholars during any year of the project.

(i) Budget for attendance at a three-day Project Directors' meeting in Washington, DC, during each year of the project.

(j) If the project maintains a Web site, include relevant information and documents in a form that meets government or industry-recognized standards for accessibility.

Competitive Preference Priorities: Within this absolute priority, we give competitive preference to applications that address the following priority. For FY 2011 and any subsequent year in which we make awards from the list of unfunded applicants from this competition, these priorities are competitive preference priorities.

Competitive Preference Priority 1: Under 34 CFR 75.105(c)(2)(i) we award an additional 5 points to an application that meets this priority.

This priority is:

Collaborative Activities with an SEA or State Licensing Agency.

Applicants that document how the proposed project will collaborate with the SEA or State teacher licensing agency on issues of program improvement that affect teacher quality and effectiveness. For purposes of this competitive preference priority, documentation must include at least a letter from both the Dean and Department Chair of the appropriate college or department that supports high-incidence special education teacher preparation and from the relevant SEA or State teacher licensing agency verifying their intent to collaborate to improve teacher quality and effectiveness. The letter must include examples of the methods to be used for collaboration (e.g., establishing a statewide consortium of teacher preparation programs for program improvement, program evaluation support, increasing the productivity of preparation programs, or other activities that would directly support program improvement of the project(s) within that State).

Competitive Preference Priority 2: Under 34 CFR 75.105(c)(2)(i) we award an additional 5 points to an application that meets this priority.

This priority is:

Competitive Preference Points Based on Dual Certification (i.e., high-incidence disabilities and regular education).

Applicants with documentation that the improved or restructured program will prepare graduates to be dually certified in high-incidence disabilities and regular education. Documentation for purposes of this competitive preference priority must include a letter from both the Dean or Department Chair of the appropriate college or department that supports high-incidence special education teacher preparation and from the Dean or Department Chair of the appropriate college or department that prepares regular education teachers verifying their intent to collaborate to ensure that the improved or restructured program will prepare graduates to be dually certified in high-incidence disabilities and regular education. The letter must include a description of how the collaboration between colleges or departments will result in program graduates who are dually certified in both high-incidence disabilities and regular education (e.g., collaborate to provide clinical learning opportunities, field experiences, or supervised practica that focus on children both with and without high-incidence disabilities; collaborate to ensure the SEA or State teacher licensing agency will certify program graduates in both high-incidence disabilities and regular education).

Note: Five is the maximum amount of competitive preference points an applicant can receive. Applicants must include in the project abstract a statement indicating which competitive preference priorities they have addressed.

Waiver of Proposed Rulemaking: Under the Administrative Procedure Act (APA) (5 U.S.C. 553) the Department generally offers interested parties the opportunity to comment on proposed priorities and requirements. Section 681(d) of IDEA, however, makes the public comment requirements of the APA inapplicable to the priorities in this notice.

Program Authority: 20 U.S.C. 1462 and 1481.

Applicable Regulations: (a) The Education Department General Administrative Regulations (EDGAR) in 34 CFR parts 74, 75, 77, 79, 80, 81, 82, 84, 85, 86, 97, 98, and 99. (b) The regulations for this program in 34 CFR part 304.

II. Award Information

Type of Awards: Discretionary grants for competitions CFDA 84.325D and 84.325K, and cooperative agreements for competition CFDA 84.325T.

Estimated Available Funds: The Administration has requested $90,653,000 for the Personnel Development to Improve Services and Results for Children with Disabilities program for FY 2011, of which we intend to use an estimated $19,500,000 for the competitions announced in this notice. The actual level of funding, if any, depends on final congressional action. However, we are inviting applications to allow enough time to complete the grant process if Congress appropriates funds for this program.

Contingent upon the availability of funds and the quality of applications, we may make additional awards in FY 2012 from the list of unfunded applicants from the competition.

Estimated Range of Awards: See chart.

Estimated Average Size of Awards: See chart.

Maximum Award: See chart.

Estimated Number of Awards: See chart.

Project Period: See chart.

Personnel Development To Improve Services and Results For Children With Disabilities
[Application notice for fiscal year 2011]
CFDA number and name | Applications available | Deadline for transmittal of applications | Deadline for intergovernmental review | Estimated range of awards | Estimated average size of awards | Maximum award (budget period of 12 months) | Estimated number of awards | Project period | Contact person
84.325D Preparation of Special Education, Early Intervention, and Related Services Leadership Personnel | April 13, 2011 | May 31, 2011 | August 11, 2011 | $225,000-250,000 | $237,500 | $250,000 | 18 | Up to 60 mos. | Patricia Gonzalez (202) 245-7355 Rm 4082.
84.325K Personnel Preparation in Special Education, Early Intervention, and Related Services | April 13, 2011 | May 31, 2011 | August 11, 2011 |  |  |  |  |  | Maryann McDermott (202) 245-7439 Rm 4062.
Focus Area A: Preparing Personnel to Serve Infants, Toddlers, and Pre-school Age Children with Disabilities |  |  |  | 225,000-250,000 | 237,500 | *250,000 | 9 | Up to 60 mos. |
Focus Area B: Preparing Personnel to Serve School-Age Children with Low-Incidence Disabilities |  |  |  | 225,000-250,000 | 237,500 | *250,000 | 11 | Up to 60 mos. |
Focus Area C: Preparing Personnel to Provide Related Services, Speech and Language Services, and Adapted Physical Education Children, Including Infants and Toddlers, with Disabilities |  |  |  | 225,000-250,000 | 237,500 | *250,000 | 9 | Up to 60 mos. |
Focus Area D: Preparing Personnel in Minority Institutions to Serve Children, Including Infants and Toddlers, with Disabilities |  |  |  | 225,000-250,000 | 237,500 | *250,000 | 10 | Up to 60 mos. |
Focus Area E: Preparing Personnel to Provide Secondary Transition Services to School-Age Children with Disabilities | April 13, 2011 | May 31, 2011 | August 11, 2011 | 225,000-250,000 | 237,500 | *250,000 | 9 | Up to 60 mos. |
84.325T Special Education Preservice Program Improvement Grants |  |  |  | 275,000-300,000 | 288,500 | *300,000 | 10 | Up to 60 mos. | Tina Diamond (202) 245-6674 Rm 4094.
* We will reject any application that proposes a budget exceeding the maximum award for a single budget period of 12 months. The Assistant Secretary for Special Education and Rehabilitative Services may change the maximum amount through a notice published in the Federal Register.
** For the Special Education Preservice Program Improvement Grants, 84.325T competition.

Note 1: We will reject any application that proposes a budget exceeding the maximum award for a single budget period of 12 months.

Note 2: No more than one cooperative agreement will be awarded under this priority per IHE during the five-year project period. Programs in minority institutions that are preparing special education teachers of children with high-incidence disabilities are eligible to apply under this priority. For purposes of this competition, the term “minority institutions” include IHEs with a minority enrollment of 25 percent or more, which may include Historically Black Colleges and Universities, Tribal Colleges, and Predominantly Hispanic Serving Colleges and Universities.

Note: The Department is not bound by any estimates in this notice.

III. Eligibility Information

1. Eligible Applicants: Institutions of higher education (IHEs).

Note: For Absolute Priority 3—Special Education Preservice Program Improvement Grants (84.325T), programs in IHEs that propose to prepare preschool teachers are not eligible to apply under that competition.

2. Cost Sharing or Matching: This program does not require cost sharing or matching.

3. Other: General Requirements—(a) The projects funded under this program must make positive efforts to employ and advance in employment qualified individuals with disabilities (see section 606 of IDEA).

(b) Each applicant and grant recipient funded under this program must involve individuals with disabilities or parents of individuals with disabilities ages birth through 26 in planning, implementing, and evaluating the project (see section 682(a)(1)(A) of IDEA).

IV. Application and Submission Information

1. Address to Request Application Package: You can obtain an application package via the Internet, from the Education Publications Center (ED Pubs), or from the program office.

To obtain a copy via the Internet, use the following address: http://www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application from ED Pubs, be sure to identify the competition as follows: CFDA number 84.325D, 84.325K, or 84.325T.

To obtain a copy from the program office, contact the person listed under FOR FURTHER INFORMATION CONTACT in section VII of this notice.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages using the following standards:

• A “page” is 8.5″ × 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the résumés, the bibliography, the references, or the letters of support. However, you must include all of the application narrative in Part III.

We will reject your application if you exceed the page limit; or if you apply other standards and exceed the equivalent of the page limit.

3. Submission Dates and Times:

Applications Available: See chart.

Deadline for Transmittal of Applications: See chart.

Applications for grants under this program may be submitted electronically using the Grants.gov Apply site (Grants.gov), or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: See chart.

4. Intergovernmental Review: This program is subject to Executive Order 12372 and the regulations in 34 CFR part 79. Information about Intergovernmental Review of Federal Programs under Executive Order 12372 is in the application package for the competitions announced in this notice.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under the competitions announced in this notice may be submitted electronically or in paper format by mail or hand delivery.

a. Electronic Submission of Applications.

We are participating as a partner in the Governmentwide Grants.gov Apply site. The Personnel Development to Improve Services and Results for Children with Disabilities competitions, CFDA numbers 84.325D, 84.325K, and 84.325T, announced in this notice are included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Personnel Development to Improve Services and Results for Children with Disabilities program competitions—CFDA numbers 84.325D, 84.325K, and 84.325T at www.Grants.gov. You must search for the downloadable application package for this program by the CFDA number. Do not include the CFDA number's alpha suffix in your search (e.g., search for 84.325, not 84.325D).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at http://www.G5.gov.

• You will not receive additional point value because you submit your application in electronic format, nor will we penalize you if you submit your application in paper format.

• If you submit your application electronically, you must submit all documents electronically, including all information you typically provide on the following forms: The Application for Federal Assistance (SF 424), the Department of Education Supplemental Information for SF 424, Budget Information—Non-Construction Programs (ED 524), and all necessary assurances and certifications.

• If you submit your application electronically, you must attach any narrative sections of your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address:

U.S. Department of Education, Application Control Center, Attention: (CFDA number 84.325D, 84.325K, or 84.325T), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address:

U.S. Department of Education, Application Control Center, Attention: (CFDA number 84.325D, 84.325K, or 84.325T) 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: (a) We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

(b) In the past, the Department has had difficulty finding peer reviewers for certain competitions, because so many individuals who are eligible to serve as peer reviewers have conflicts of interest. The Standing Panel requirements under IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Personnel Development to Improve Services and Results for Children with Disabilities Program. These measures include: (1) The percentage of projects that incorporate scientifically based practices into the curriculum; (2) the percentage of scholars who exit preparation programs prior to completion due to poor academic performance; (3) the percentage of scholars completing the IDEA-funded preparation programs who are knowledgeable and skilled in scientifically based practices for children, including infants and toddlers, with disabilities; (4) the percentage of degree or certification recipients who are working in the area(s) for which they were prepared upon program completion; (5) the percentage of degree or certification recipients who are working in the area(s) for which they were prepared upon program completion and are fully qualified under IDEA; (6) the percentage of program graduates who maintain employment for three or more years in the area(s) for which they were prepared and who are fully qualified under IDEA; and (7) the Federal cost per fully qualified degree/certification recipient.

Grantees may be asked to participate in assessing and providing information on these aspects of program quality.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

See chart in the Award Information section in this notice for the name, room number and telephone number of the contact person for each competition. You can write to the contact person at the following address: U.S. Department of Education, 400 Maryland Avenue, SW., Potomac Center Plaza (PCP), Washington, DC 20202-2600.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 7, 2011.
Alexa Posny,
Assistant Secretary for Special Education and Rehabilitative Services.

[FR Doc. 2011-8745 Filed 4-12-11; 8:45 am]

BILLING CODE 4000-01-P